DEPARTMENT OF THE INTERIOR

Fish and Wildlife Service

[FWS-R1-NWRS-2008-N0310; 1265-0000-10137-S3]

Baker Island, Howland Island, and Jarvis Island National Wildlife Refuges, U.S. Territories

AGENCY: Fish and Wildlife Service, Interior.

ACTION: Notice of availability of the final comprehensive conservation plans and findings of no significant impact.

SUMMARY: We, the U.S. Fish and Wildlife Service (Service) have completed Comprehensive Conservation Plans (CCPs) and Findings of No Significant Impact (FONSIs) for the Baker Island, Howland Island, and Jarvis Island National Wildlife Refuges (Refuges). The CCPs were developed to provide a foundation for the management and use of these Refuges. We are furnishing this notice to advise other agencies and the public of the availability of the CCPs and FONSIs, and the decision to implement Alternative B as described in each CCP. The Service's Regional Director for the Pacific Region selected Alternative B for managing these Refuges for the next 15 years. The Refuges are U.S. Territories in the central Pacific Ocean, located between 1,300 and 1,600 miles southwest of Honolulu, Hawai'i.

DATES: The CCPs and FONSIs are now available. Implementation of the CCPs may begin immediately.

ADDRESSES: Printed copies of the CCPs and FONSIs are available for viewing or may be obtained by visiting or writing the Pacific Remote Islands National Wildlife Refuge Complex, 300 Ala Moana Blvd., Room 5-211, Honolulu, HI 96850. These documents are also available for viewing and downloading on the Internet at http://www.fws.gov/pacific/planning/.

FOR MORE INFORMATION CONTACT: Donald Palawski, Refuge Manager, Pacific Remote Islands National Wildlife Refuge Complex, phone number (808) 792-9560.

SUPPLEMENTARY INFORMATION: Baker Island, Howland Island, and Jarvis Island Refuges are part of the National Wildlife Refuge System administered by the Service. The National Wildlife Refuge System Administration Act of 1966 (Refuge Administration Act), as amended by the National Wildlife Refuge System Improvement Act of 1997 (16 U.S.C. 668dd-668ee), requires all units of the National Wildlife Refuge System to be managed in accordance with an approved CCP. A CCP provides management direction and identifies refuge goals, objectives, and strategies for achieving refuge purposes. The CCPs and FONSIs for the Refuges were prepared pursuant to the National Environmental Policy Act (NEPA), as amended, and its implementing regulations, the Refuge Administration Act, and Service policies.

The Refuges and surrounding marine waters are unincorporated territories under the sovereignty of the United States. The Refuges straddle the equator in the Central Pacific subregion of the Polynesian Region of the Pacific Basin. This subregion, the largest of the four in the Polynesian Region, is the most remote part of the tropical Pacific and includes only low-lying reef islands, atolls and submerged reefs. The dominant wildlife species on these islands includes breeding seabirds and migrant shorebirds. In the waters surrounding the Refuges there are extremely pristine and unique coral reef and deep water ecosystems that exist nowhere else in the United States.

During the CCP planning process for these Refuges many elements were considered, including wildlife management and habitat protection, off-Refuge wildlife-dependent educational opportunities, and coordination with Federal agencies and other interested groups. The Draft CCPs and associated Environmental Assessments identified and evaluated four alternatives for managing these Refuges. The Draft CCPs were available for a 45-day public review and comment period. The Service received nine comment communications, which were incorporated into, or responded to in the final CCPs. No substantive changes were required to address public comments.

Changes to the Refuges' management include a modest increase in the frequency of staff visits to monitor seabird abundance and nesting status, conducting seabird nesting restoration, conducting marine exploration and marine ecosystem monitoring, and preserving cultural resource and wilderness resource values at the Refuges. Public access to the Refuges will remain closed, and commercial fishing will continue to be prohibited within the boundaries of these Refuges.

The following key actions described in the CCPs will be implemented.

• With assistance from partners, we will conduct management activities annually at the Refuges.

• We will continue to conserve, manage, and protect native terrestrial and marine communities that are representative of remote tropical Pacific islands.

• We will develop baseline data to understand sea turtle and seabird use at these Refuges.

• We will take actions to restore breeding populations of the Polynesian storm-petrel to the Refuges by using electronic call devices to attract and establish nesting colonies.

• We will conduct management actions in a manner that maintains and preserves the wilderness character of the terrestrial and marine communities at these Refuges.

• In coordination with partners, we will use remote surveillance and monitoring techniques to ensure the Refuges' biological, cultural, and historic resources are preserved.

• The Service will develop an off-Refuge environmental education and interpretation program for the public to learn about wilderness values, cultural and historic resources, tropical island ecosystems, seabirds, and coral reefs at these and other remote Pacific island refuges.

Dated: August 12, 2008.
David J. Wesley,
Acting Regional Director, Region 1, Portland, Oregon.

Editorial Note: This document was received in the Office of the Federal Register on December 11, 2008.

[FR Doc. E8-29721 Filed 12-16-08; 8:45 am]

BILLING CODE 4310-55-P